DEPARTMENT OF ENERGY

Federal Energy Regulatory Commission

Combined Notice of Filings #1

Take notice that the Commission received the following exempt wholesale generator filings:

Docket Numbers: EG16-79-000.

Applicants: Atlantic Power (Williams Lake) Ltd.

Description: Self-Certification of EG or FC of Atlantic Power (Williams Lake) Ltd.

Filed Date: 4/1/16.

Accession Number: 20160401-5453.

Comments Due: 5 p.m. ET 4/22/16.

Docket Numbers: EG16-80-000.

Applicants: Atlantic Power (Coastal Rivers) Corporation.

Description: Self-Certification of EG or FC of Atlantic Power (Coastal Rivers) Corporation.

Filed Date: 4/1/16.

Accession Number: 20160401-5454.

Comments Due: 5 p.m. ET 4/22/16.

Docket Numbers: EG16-81-000.

Applicants: Grande Prairie Wind, LLC.

Description: Notice of Self-Certification of Exempt Wholesale Generator Status of Grande Prairie Wind, LLC.

Filed Date: 4/4/16.

Accession Number: 20160404-5199.

Comments Due: 5 p.m. ET 4/25/16.

Take notice that the Commission received the following electric rate filings:

Docket Numbers: ER13-94-008.

Applicants: Avista Corporation.

Description: Compliance filing: Avista Corp OATT Order 1000 Compliance Filing to be effective 4/5/2016.

Filed Date: 4/4/16.

Accession Number: 20160404-5181.

Comments Due: 5 p.m. ET 4/25/16.

Docket Numbers: ER13-99-008.

Applicants: Puget Sound Energy, Inc.

Description: Compliance filing: OATT Order No 1000 to be effective 4/5/2016.

Filed Date: 4/4/16.

Accession Number: 20160404-5225.

Comments Due: 5 p.m. ET 4/25/16.

Docket Numbers: ER14-1969-006.

Applicants: Public Service Company of Colorado.

Description: Compliance filing: 2016-4-4_PSCo Wind Integ Stlmnt-Filing to be effective 1/1/2015.

Filed Date: 4/4/16.

Accession Number: 20160404-5148.

Comments Due: 5 p.m. ET 4/25/16.

Docket Numbers: ER15-422-004.

Applicants: Avista Corporation.

Description: Compliance filing: Avista Corp Order 1000 FERC Rate Schedule No. CG2 Compliance Filing to be effective 4/5/2016.

Filed Date: 4/4/16.

Accession Number: 20160404-5187.

Comments Due: 5 p.m. ET 4/25/16.

Docket Numbers: ER15-429-004.

Applicants: Puget Sound Energy, Inc.

Description: Compliance filing: ColumbiaGrid Fourth Amendment to be effective 4/5/2016.

Filed Date: 4/4/16.

Accession Number: 20160404-5212.

Comments Due: 5 p.m. ET 4/25/16.

Docket Numbers: ER16-731-000.

Applicants: Green Country Energy, LLC.

Description: Amendment to January 14, 2016 Green Country Energy, LLC Triennial MBR Update.

Filed Date: 4/4/16.

Accession Number: 20160404-5153.

Comments Due: 5 p.m. ET 4/25/16.

Docket Numbers: ER16-1301-000.

Applicants: ISO New England Inc., Emera Maine.

Description: § 205(d) Rate Filing: Changes to Bangor Hydro District Open Access Transmission Tariff to be effective 6/1/2016.

Filed Date: 3/31/16.

Accession Number: 20160331-5129.

Comments Due: 5 p.m. ET 4/21/16.

Docket Numbers: ER16-1339-000.

Applicants: WSPP Inc.

Description: § 205(d) Rate Filing: List of Members Update 2016 to be effective 3/30/2016.

Filed Date: 4/4/16.

Accession Number: 20160404-5101.

Comments Due: 5 p.m. ET 4/25/16.

Docket Numbers: ER16-1340-000.

Applicants: PJM Interconnection, L.L.C.

Description: Tariff Cancellation: Notice of Cancellation of WMPA SA No. 3654, Queue No. Y2-003 due to Breach to be effective 4/4/2016.

Filed Date: 4/4/16.

Accession Number: 20160404-5102.

Comments Due: 5 p.m. ET 4/25/16.

Docket Numbers: ER16-1341-000.

Applicants: Southwest Power Pool, Inc.

Description: Petition of Southwest Power Pool, Inc. for Tariff Waiver.

Filed Date: 4/1/16.

Accession Number: 20160401-5478.

Comments Due: 5 p.m. ET 4/22/16.

Dockek Numbers: ER16-1343-000.

Applicants: Midcontinent Independent System Operator, Inc.

Description: § 205(d) Rate Filing: 2016-04-04_SA 2909 Certificate of Concurrence METC-ITCI Agreement to be effective 6/1/2016.

Filed Date: 4/4/16.

Accession Number: 20160404-5234.

Comments Due: 5 p.m. ET 4/25/16.

Take notice that the Commission received the following open access transmission tariff filings:

Docket Numbers: OA16-1-000.

Applicants: Arizona Public Service Company.

Description: Supplement to February 1, 2016 Arizona Public Service Company's Notice of Late System Impact Studies pursuant to Order 890 and 890-A.

Filed Date: 3/28/16.

Accession Number: 20160328-5250.

Comments Due: 5 p.m. ET 4/18/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 4, 2016.
Nathaniel J. Davis, Sr.,
Deputy Secretary.

[FR Doc. 2016-08071 Filed 4-7-16; 8:45 am]

BILLING CODE 6717-01-P